DEPARTMENT OF TRANSPORTATION

Federal Motor Carrier Safety Administration

49 CFR Part 397

[Docket No. FMCSA-02-11650 (HM-232A)]

RIN 2137-AD70

Security Requirements for Motor Carriers Transporting Hazardous Materials

ACTION: Notice.

SUMMARY: This notice advises the public that the Research and Special Programs Administration (RSPA) has assumed the lead role from the Federal Motor Carrier Safety Administration (FMCSA) for rulemaking addressing the security of motor carrier shipments of hazardous materials. On July 16, 2002, the two agencies published a joint advance notice of proposed rulemaking (ANPRM), requesting comments on technological and operational measures to enhance hazardous materials transportation security. Because the Homeland Security Act of 2002 provides RSPA with enhanced authority to regulate hazardous materials transportation security, RSPA will lead further rulemaking development on this subject.

DATES: This notice is effective March 19, 2003.

ADDRESSES: You can mail, fax, hand deliver or electronically submit written comments to the U.S. Department of Transportation, Dockets Management Facility, Room PL-401, 400 Seventh Street, SW., Washington, DC 20590-0001, FAX (202) 493-2251, on-line at http://dmses.dot.gov/submit. You must include in your comment the docket number that appears in the heading of this document. You can examine and copy all comments at the above address from 9 a.m. to 5 p.m., EDT, Monday through Friday, except Federal holidays. You can also view all comments or download an electronic copy of this document from the DOT Docket Management System (DMS) at http://dms.dot.gov/search.htm by typing the last five digits of the document number appearing at the heading of this document. The DMS is available 24 hours each day, 365 days each year. You can get electronic submission and retrieval help and guidelines at the “Help” section of the Web site. If you want us to notify you that we received your comments, please include a self-addressed, stamped envelope or postcard, or print the acknowledgement page that appears after submitting comments on-line.

FOR FURTHER INFORMATION CONTACT: Susan Gorsky, Office of Hazardous Materials Standards, Research and Special Programs Administration, 202-366-8553.

SUPPLEMENTARY INFORMATION: On July 16, 2002, FMCSA and RSPA published a joint ANPRM entitled “Security Requirements for Motor Carriers Transporting Hazardous Materials” (67 FR 46622). In the ANPRM, RSPA and FMCSA sought information on the feasibility of imposing specific security requirements on motor carriers that transport hazardous materials in commerce. The ANPRM noted that certain government agencies, including the Department of Defense, the Department of Energy, and the Nuclear Regulatory Commission, as well as some private companies, employ rigorous security measures to protect sensitive shipments and suggested that some of these security measures could also be appropriate for broader application to commercial motor carrier shipments of hazardous materials. In addition, the ANPRM described technological solutions for tracking shipments, communicating with drivers, or securing shipments within trailers that can protect shipments from hijacking or provide an early indication of a potential security problem. The ANPRM asked for comments on the feasibility of mandating technological or operational measures such as escorts, vehicle tracking and monitoring systems, emergency warning systems, remote shut-offs, direct short-range communications, and advance notification of shipments to state and local authorities. After an extension, the comment period for the ANPRM closed November 15, 2002. Comments received in response to the ANPRM are accessible through DOT's Dockets Management System under Docket No. FMCSA-01-11650 (HM-232A).

RSPA's lead role in addressing hazardous materials transportation security was clarified with an amendment to the Federal hazardous materials transportation law (Federal hazmat law; 49 CFR 5101 et seq.) in the Homeland Security Act of 2002 (Pub. Law. 107-296). Under section 1711 of the Homeland Security Act, the Secretary of Transportation's authority to regulate hazardous materials, which is delegated to RSPA, was expanded to include hazardous materials transportation security. Section 1711 amended section 5103 of Federal hazmat law to require the Secretary to “prescribe regulations for the safe transportation, including security, of hazardous material in intrastate, interstate, and foreign commerce” and to provide that the regulations “shall govern safety aspects, including security, of the transportation of hazardous material the Secretary considers appropriate.” Accordingly, RSPA and FMCSA determined that RSPA should take the lead in future rulemaking to address the security of hazardous materials shipments transported by motor carriers. The Spring 2003 edition of the Semi-Annual Regulatory Agenda will reflect that RSPA has assumed leadership of this rulemaking project.

Once RPSA develops its next regulatory action on this subject, it will establish its own docket number. RSPA plans to provide public access to that regulatory action, through a hyperlink connecting the current FMCSA docket number to the new RSPA docket number. Thus, parties searching for updated information on this rulemaking through the former docket number will be apprised of RSPA's rulemaking.

Issued on: March 14, 2003.
Pamela M. Pelcovits,
Acting Associate Administrator, Policy, Plans, and Regulation.

[FR Doc. 03-6628 Filed 3-18-03; 8:45 am]

BILLING CODE 4910-EX-P